FEDERAL MARITIME COMMISSION

[Docket No. 23-05]

Rahal International, Inc., Complainant v. Hapag-Lloyd AG, Hapag-Lloyd (America) LLC, Hapag-Lloyd USA, LLC, Respondents; Notice of Filing of Complaint and Assignment

Served: June 30, 2023.

Notice is given that a complaint has been filed with the Federal Maritime Commission (hereinafter “Commission”) by Rahal International, Inc. (hereinafter “Complainant”) against Hapag-Lloyd AG, Hapag-Lloyd (America), LLC, and Hapag-Lloyd USA, LLC (hereinafter collectively referred to as “Respondents”). Complainant states that it is an independent importer and broker and corporation duly organized under the laws of Delaware with a principal place of business in Illinois. Complainant identifies Hapag-Lloyd AG as a global ocean common carrier based in Germany with a principal place of business in Germany. Complainant identifies Hapag-Lloyd (America), LLC as a United States limited liability company and agent and subsidiary of Hapag-Lloyd AG with its principal office located in Georgia. Complainant identifies Hapag-Lloyd USA, LLC as a United States limited liability company, ocean common carrier/common carrier, and agent and subsidiary of Hapag-Lloyd AG with its principal office located in New Jersey.

Complainant alleges that Respondents violated the Shipping Act of 1984, as amended, 46 U.S.C. 40101 to 46108, specifically including that Respondents violated 46 U.S.C. 41102(c), 41104(a)(2)(A), 41104(a)(14), 41104(a)(15), 41104(d) and part 545 of title 46, Code of Federal Regulations regarding a failure to establish, observe, and enforce just and reasonable regulations and practices relating to or connected with receiving, handling, storing or delivering Complainant's property, the assessment of excessive charges, inconsistent and/or noncompliant charges, and noncompliant demurrage or detention charges. The Complainant alleges these violations arose from Respondents failure to provide adequate facilities for the return of empty containers while continuing to accept business and charge excessive ocean freight fees with knowledge of the lack of facilities and without providing alternatives, as well as, resulting logistical paralysis that precluded Complainant from its retrieval of loaded containers.

An answer to the complaint is due to be filed with the Commission within twenty-five (25) days after the date of service.

The full text of the complaint can be found in the Commission's Electronic Reading Room at https://www2.fmc.gov/readingroom/proceeding/23-05/. This proceeding has been assigned to the Office of Administrative Law Judges. The initial decision of the presiding judge in this proceeding shall be issued by July 1, 2024, and the final decision of the Commission shall be issued by January 15, 2025.

William Cody,
Secretary.

[FR Doc. 2023-14293 Filed 7-6-23; 8:45 am]

BILLING CODE 6730-02-P